POSTAL SERVICE

Board of Governors; Sunshine Act Meeting

DATES AND TIMES: Monday, February 8, 2021, at 10:00 a.m.; and Tuesday, February 9, 2021, at 9:00 a.m.

PLACE: Washington, DC, at U.S. Postal Service Headquarters, 475 L'Enfant Plaza SW, in the Benjamin Franklin Room.

STATUS: Monday, February 8, 2021, at 10:00 a.m.—Closed; Tuesday, February 9, 2021, at 9:00 a.m.—Open.

MATTERS TO BE CONSIDERED:

Monday, February 8, 2021, at 10:00 a.m. (Closed)

1. Strategic Issues.

2. Financial and Operational Matters.

3. Compensation and Personnel Matters.

4. Administrative Items.

Tuesday, February 9, 2021, at 9:00 a.m. (Open)

1. Remarks of the Chairman of the Board of Governors.

2. Election of Chairman and Vice Chairman of the Board.

3. Remarks of the Chairman and Vice Chairman of the Board.

4. Remarks of the Postmaster General and CEO.

5. Approval of Minutes of Previous Meetings.

6. Committee Reports.

7. Quarterly Financial Report.

8. Quarterly Service Performance Report.

9. Approval of Tentative Agendas for May Meetings.

CONTACT PERSON FOR MORE INFORMATION: Michael J. Elston, Secretary of the Board, U.S. Postal Service, 475 L'Enfant Plaza SW, Washington, DC 20260-1000. Telephone: (202) 268-4800.

Michael J. Elston,
Secretary.

[FR Doc. 2021-02150 Filed 1-28-21; 11:15 am]

BILLING CODE 7710-12-P